DEPARTMENT OF TRANSPORTATION

Surface Transportation Board

[STB Finance Docket No. 34069]

Central Montana Rail, Inc.—Trackage Rights Exemption—The Burlington Northern and Santa Fe Railway Company

The Burlington Northern and Santa Fe Railway Company (BNSF) has agreed to grant temporary overhead trackage rights to Central Montana Rail, Inc. (CMR) over BNSF's lines between milepost 134.4 and milepost 134.57, in the vicinity of Mocassin, MT, a distance of 0.17 miles.

The parties reported that they intended to consummate the transaction as soon as practicable under this exemption. The earliest the transaction could have been consummated was November 5, 2001, the effective date of the exemption (7 days after the notice of exemption was filed).¹ The temporary trackage rights are to allow CMR to serve the United Harvest grain elevator located at milepost 134.4 until such time that CMR can construct its own track.

¹ On October 29, 2001, CMR concurrently filed a petition for exemption in STB Finance Docket No. 34069 (Sub-No. 1), Central Montana Rail, Inc.—Trackage Rights Exemption—The Burlington Northern and Santa Fe Railway Company, wherein CMR requests that the Board permit the proposed temporary overhead trackage rights arrangement described in the present proceeding to expire on January 1, 2003. That petition will be addressed by the Board in a separate decision.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34069 must be filed with the Surface Transportation Board, Office of the Secretary, Case Control Unit, 1925 K Street, NW., Washington, DC 20423-0001. In addition, one copy of each pleading must be served on Tammy Wyatt-Shaw, Esq., Phillips & Bohyer, P.C., P.O. Box 8569, Missoula, MT 59807.

Board decisions and notices are available on our Web site at www.stb.dot.gov.

Decided: November 7, 2001.
By the Board, David M. Konschnik, Director, Office of Proceedings.
Vernon A. Williams,
Secretary.

[FR Doc. 01-28656 Filed 11-15-01; 8:45 am]

BILLING CODE 4915-00-P